DEPARTMENT OF THE TREASURY

Privacy Act of 1974; System of Records

AGENCY: Departmental Offices, Department of the Treasury.

ACTION: Notice of a new system of records.

SUMMARY: In accordance with the Privacy Act of 1974, the Department of the Treasury (“Treasury” or “the Department”), Departmental Offices (DO) proposes to establish a new system of records within its inventory of records systems, subject to the Privacy Act of 1974, as amended titled “Departmental Offices .412 Integrated Library System (ILS) Records.” This action is necessary to meet the requirements of the Privacy Act to publish in the Federal Register notice of the existence and character of records maintained by DO. The Treasury Library (“Library”) in the Office of Privacy, Transparency, & Records uses the records in the ILS to keep track of items borrowed by DO employees from the Library's collection and to ensure that all items are returned to the Library in a timely manner and/or upon a DO employee's resignation from the Department.

DATES: Written comments must be received by January 18, 2023. The system and the routine uses in this action will be effective on January 18, 2023 unless Treasury receives comments and determines that changes to the system of records notice are necessary.

ADDRESSES: Comments may be submitted to the Federal eRulemaking Portal electronically at https://www.regulations.gov. Electronic submission of comments allows the commenter maximum time to prepare and submit a comment, ensures timely receipt, and enables the Treasury to Make the comments available to the public. Please note that public comments are submitted through https://www.regulations.gov, a public website. All comments will be public and capable of viewing by other members of the public. Due to COVID-19-related restrictions, Treasury has temporarily suspended the public's ability to provide comments by mail. In general, Treasury will post all comments to https://www.regulations.gov without change, including any business or personal information provided, such as names, addresses, email addresses, or telephone numbers. All comments received, including attachments and other supporting material, will be part of the public disclosure. You should only submit information that you wish to make publicly available.

FOR FURTHER INFORMATION CONTACT: For questions about this notice and privacy issues, contact: Ryan Law, Deputy Assistant Secretary for Privacy, Transparency, & Records, (202-622-5710), U.S. Department of the Treasury, 1500 Pennsylvania Avenue NW, Washington, DC 20220; email: privacy@treasury.gov.

SUPPLEMENTARY INFORMATION: In accordance with the Privacy Act, the Department has conducted a review and determined that the ILS is a system or record. This is a result of various changes and updates, including more advanced electronic information technologies such as cloud technology. The Library uses the records in the ILS to keep track of items borrowed by registered users from the Library's collection and to ensure that all items are returned to the Library in a timely manner and/or upon a Treasury employee's resignation from the Department. In accordance with 5 U.S.C. 552a(r), Treasury has provided a report of this new system to the Office of Management and Budget (OMB) and to the U.S. Congress.

Dated: December 13, 2022.
Ryan Law,
Deputy Assistant Secretary for Privacy, Transparency, and Records.

SYSTEM NAME AND NUMBER:

Department of the Treasury, Departmental Offices .412 Integrated Library System (ILS) Records.

SYSTEM CLASSIFICATION:

Unclassified.

SYSTEM LOCATION:

Department of the Treasury, Departmental Offices, 1500 Pennsylvania Avenue NW, Washington, DC 20220.

Hosted on Workplace.gov Community Cloud—Moderate, and accredited FedRAMP Moderate platform built on Amazon Web Services Commercial Cloud us-east 1.

SYSTEM MANAGER(S):

Treasury Library, Office of Privacy, Transparency, & Records, 1500 Pennsylvania Avenue NW, Washington, DC 20220.

Authority for Maintenance of the System:

5 U.S.C. 301; 44 U.S.C. 1907; and 44 U.S.C. 3101.

PURPOSE(S) OF THE SYSTEM:

The information is maintained and used to keep track of items borrowed by registered users from the Library's collection and to ensure that all items are returned to the Library in a timely manner and/or upon an employee's resignation from the Department.

CATEGORIES OF INDIVIDUALS COVERED BY THE SYSTEM:

Information on current DO employees who have registered as library patrons/users.

CATEGORIES OF RECORDS IN THE SYSTEM:

Information in this system includes, but is not limited to, records on checked-out and/or checked-in items contained in the Library's collection. The records may include, but are not limited to, information such as the individual's name, Department email address, and Library patron barcode number.

RECORD SOURCE CATEGORIES:

DO employees who provide contact information to the library to check-out library materials.

ROUTINE USES OF RECORDS MAINTAINED IN THE SYSTEM, INCLUDING CATEGORIES OF USERS AND PURPOSES OF SUCH USES:

In addition to those disclosures generally permitted under the Privacy of 1974, 5 U.S.C. 552a(b) records and/or information or portions thereof maintained as part of this system may be disclosed outside Treasury as a routine use pursuant to 5 U.S.C. 552a(b)(3) as follows:

(1) To the United States Department of Justice (“DOJ”), for the purpose of representing or providing legal advice to the Department in a proceeding before a court, adjudicative body, or other administrative body before which the Department is authorized to appear, when such proceeding involves:

(a) The Department or any component thereof;

(b) Any employee of the Department in his or her official capacity;

(c) Any employee of the Department in his or her individual capacity where the DOJ or the Department has agreed to represent the employee; or

(d) The United States, when the Department determines that litigation is likely to affect the Department or any of its components; and the use of such records by the DOJ is deemed by the DOJ or the Department to be relevant and necessary to the litigation.

(2) To a Federal, State, local, or other public authority maintaining civil, criminal or other relevant enforcement information or other pertinent information, which has requested information relevant to or necessary to the requesting agency's, bureau's, or authority's hiring or retention of an individual, or issuance of a security clearance, license, contract, grant, or other benefit;

(3) To a Congressional office in response to an inquiry made at the request of the individual to whom the record pertains;

(4) To the National Archives and Records Administration (NARA) or General Services Administration pursuant to records management inspections being conducted under the authority of 44 U.S.C. 2904 and 2906;

(5) To appropriate agencies, entities, and persons when (1) the Department of the Treasury and/or one of its bureaus suspects or has confirmed that there has been a breach of the system of records; (2) the Department of the Treasury and/or bureau has determined that as a result of the suspected or confirmed breach there is a risk of harm to individuals, the Department of the Treasury and/or bureau (including its information systems, programs, and operations), the Federal Government, or national security; and (3) the disclosure made to such agencies, entities, and persons is reasonably necessary to assist in connection with the Department of the Treasury's and/or bureau's efforts to respond to the suspected or confirmed breach or to prevent, minimize, or remedy such harm;

(6) To another Federal agency or Federal entity, when the Department of the Treasury and/or bureau determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(7) To disclose information to DO managers or supervisors to facilitate the recovery of books or other lent library materials that are overdue.

(8) To disclose information to contractors performing or working on a contract to provide library and/or IT services for the Federal Government who may require access to this system of records.

POLICIES AND PRACTICES FOR STORAGE OF RECORDS:

Records are maintained electronically in the ILS database. The database is password protected and is hosted in a secure cloud environment.

POLICIES AND PRACTICES FOR RETRIEVAL OF RECORDS:

Information in this system may be retrieved by the patron's name, Treasury-issued email address, and barcode number.

POLICIES AND PRACTICES FOR RETENTION AND DISPOSAL OF RECORDS:

Information in this system is maintained and disposed of in accordance with the disposition authority of the (NARA General Records Schedule (GRS) 4.4 as follows:

DAA-GRS-2015-0003-0002: Library operations records—Destroy when business use ceases. The electronic records, files, and data are destroyed by erasure of the electronic data.

ADMINISTRATIVE, TECHNICAL, AND PHYSICAL SAFEGUARDS:

The electronic data are stored within the Treasury accredited cloud, Workplace.gov Community Cloud—Moderate. Access to the electronic data is restricted to Library staff, IT staff and contractors, and ILS who maintain the networks and services. Other Treasury employees, contractors, vendors, and users may be granted on a “need-to-know” basis. The Treasury's data are protected by the DO and third-party privacy safeguards, a comprehensive and dynamic set of IT safety and security protocols and features that are designed to meet all Federal IT privacy standards, including those required by the Federal Information Security Modernization Act of 2014, the OMB, the Department of Defense Security Technical Implementation Guides, and the National Institute of Standards and Technology.

The Library may print paper copies of the electronic records for various short-term uses, as necessary. These paper copies are stored in a secure location in the Library when not in use. These paper copies are destroyed when no longer needed.

RECORDS ACCESS PROCEDURES:

See “Notification Procedure” below.

CONTESTING RECORD PROCEDURES:

See “Notification Procedure” below.

NOTIFICATION PROCEDURES:

Individuals seeking notification of and access to any record contained in this system of records, or seeking to contest its content, may submit a request in writing, in accordance with Treasury's Privacy Act regulations (located at 31 CFR 1.26), to the Freedom of Information Act (FOIA) and Transparency Liaison, whose contact information can be found at https://home.treasury.gov/footer/freedom-of-information-act/foia-requester-service-centers-foia-public-liaisons If an individual believes more than one bureau maintains Privacy Act records concerning him or her, the individual may submit the request to the Office of Privacy, Transparency, & Records, FOIA and Transparency, Department of the Treasury, 1500 Pennsylvania Ave. NW, Washington, DC 20220.

No specific form is required, but a request must be written and:

• Be signed and either notarized or submitted under 28 U.S.C. 1746, a law that permits statements to be made under penalty of perjury as a substitute for notarization;

• State that the request is made pursuant to the FOIA and/or Privacy Act disclosure regulations;

• Include information that will enable the processing office to determine the fee category of the user;

• Be addressed to the bureau that maintains the record (in order for a request to be properly received by the Department, the request must be received in the appropriate bureau's disclosure office);

• Reasonably describe the records;

• Give the address where the determination letter is to be sent;

• State whether the requester wishes to inspect the records or have a copy made without first inspecting them; and

• Include a firm agreement from the requester to pay fees for search, duplication, or review, as appropriate. In the absence of a firm agreement to pay, the requester may submit a request for a waiver or reduction of fees, along with justification of how such a waiver request meets the criteria for a waiver or reduction of fees found in the FOIA statute at 5 U.S.C. 552(a)(4)(A)(iii).

You may also submit your request online at https://home.treasury.gov/footer/freedom-of-information-act/submit-a-request.

EXEMPTION PROMULGATED FOR THE SYSTEM:

None.

HISTORY:

None.

[FR Doc. 2022-27386 Filed 12-16-22; 8:45 am]

BILLING CODE 4810-AK-P